NUCLEAR REGULATORY COMMISSION

10 CFR Part 50

RIN 3150-AI53

[NRC-2008-0663]

Industry Codes and Standards; Amended Requirements; Confirmation of Effective Date

AGENCY: Nuclear Regulatory Commission.

ACTION: Direct final rule: Confirmation of effective date.

SUMMARY: The Nuclear Regulatory Commission (NRC) is confirming the effective date of October 19, 2009, for the direct final rule that was published in the Federal Register on August 5, 2009. This direct final rule amended the NRC's regulations on governing vessel head inspection requirements. This amendment revised the upper range of the percentage of axial flaws permitted in a specimen set used for the qualification of nondestructive examination systems (procedures, personnel and equipment), which are used in the performance of inservice inspection (ISI) of pressurized water reactor (PWR) upper vessel head penetrations. This amendment was made as a result of the withdrawal of a stakeholder's recommendation necessitated by a typographical error in the original recommendation with respect to the maximum percentage of flaws that should be oriented axially.

DATES: The effective date of October 19, 2009, is confirmed for the direct final rule published August 5, 2009 (74 FR 38890).

ADDRESSES: Documents related to this rulemaking, including comments received, may be examined at the NRC Public Document Room, Room O-1F23, 11555 Rockville Pike, Rockville, Maryland 20852.

FOR FURTHER INFORMATION CONTACT: Manash K. Bagchi, Project Manager, Office of Nuclear Reactor Regulation, U.S. Nuclear Regulatory Commission, Washington, DC 20555-0001, telephone 301-415-2905, e-mail manash.bagchi@nrc.gov.

SUPPLEMENTARY INFORMATION: On August 5, 2009 (74 FR 38890), the NRC published in the Federal Register a direct final rule amending its regulations in 10 CFR Part 50 governing vessel head inspection requirements. This amendment revises the upper range of the percentage of axial flaws from 40 percent to 60 percent permitted in a specimen set used for the qualification of nondestructive examination systems (procedures, personnel and equipment), which are used in the performance of ISI of PWR upper vessel head penetrations. This amendment is being made as a result of the withdrawal of a stakeholder's recommendation necessitated by a typographical error in the original recommendation with respect to the maximum percentage of flaws that should be oriented axially. In the direct final rule, NRC stated that if no significant adverse comments were received, the direct final rule would become final on October 19, 2009. The NRC did not receive any comments that warranted withdrawal of the direct final rule. Therefore, this rule will become effective as scheduled.

Dated at Rockville, Maryland, this 13th day of October, 2009.
For the Nuclear Regulatory Commission.
Michael T. Lesar,
Chief, Rulemaking and Directives Branch, Division of Administrative Services, Office of Administration.

[FR Doc. E9-25049 Filed 10-16-09; 8:45 am]

BILLING CODE 7590-01-P